DEPARTMENT OF THE INTERIOR

National Park Service

[NPS-WASO-NAGPRA-NPS0036326; PPWOCRADN0-PCU00RP14.R50000]

Notice of Inventory Completion: Oberlin College, Oberlin, OH

AGENCY: National Park Service, Interior.

ACTION: Notice.

SUMMARY: In accordance with the Native American Graves Protection and Repatriation Act (NAGPRA), Oberlin College has completed an inventory of human remains and has determined that there is a cultural affiliation between the human remains and Indian Tribes or Native Hawaiian organizations in this notice. The human remains were removed from the Hawaiian Islands, HI.

DATES: Repatriation of the human remains in this notice may occur on or after September 11, 2023.

ADDRESSES: Dr. Amy V. Margaris, Oberlin College, King Building, 10 N. Professor Street, Oberlin, OH 44074, telephone (440) 775-5173, email amy.margaris@oberlin.edu.

SUPPLEMENTARY INFORMATION: This notice is published as part of the National Park Service's administrative responsibilities under NAGPRA. The determinations in this notice are the sole responsibility of Oberlin College. The National Park Service is not responsible for the determinations in this notice. Additional information on the determinations in this notice, including the results of consultation, can be found in the inventory or related records held by Oberlin College.

Description

Human remains representing, at minimum, one individual were removed from the Hawaiian Islands, HI. Accession #65 in the accession book of the former Oberlin College Museum records that in August of 1875, Mr. E. P. Church of Greenville, Michigan donated to the Museum one “Skull of Hawaiian, Cave Burial Place, Hawaiian Islands.” According to records of the Oberlin College Archives, E. P. Church was an 1863 graduate of Oberlin College who lived on O'ahu from 1865-1875. He served as Professor of Mathematics at Oahu College (now Punahou School) in Honolulu, Hawaii (1865-1871) and as President of Oahu College (1871-1875). The human remains were retained by Oberlin College after the Museum's closure in the 1950s, and they are now in the care of the Oberlin College Department of Anthropology. The human remains consist of a skull belonging to an adult of indeterminate age and sex. No associated funerary remains are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, cultural, geographical, and historical.

Determinations

Pursuant to NAGPRA and its implementing regulations, and after consultation with the appropriate Indian Tribes and Native Hawaiian organizations, Oberlin College has determined that:

• The human remains described in this notice represent the physical remains of one individual of Native American ancestry.

• There is a relationship of shared group identity that can be reasonably traced between the human remains described in this notice and the Hui Iwi Kuamo'o.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after September 11, 2023. If competing requests for repatriation are received, Oberlin College must determine the most appropriate requestor prior to repatriation. Requests for joint repatriation of the human remains are considered a single request and not competing requests. Oberlin College is responsible for sending a copy of this notice to the Native Hawaiian organization identified in this notice.

Authority: Native American Graves Protection and Repatriation Act, 25 U.S.C. 3003, and the implementing regulations, 43 CFR 10.9, 10.10, and 10.14.

Dated: August 2, 2023.
Melanie O'Brien,
Manager, National NAGPRA Program.

[FR Doc. 2023-17132 Filed 8-9-23; 8:45 am]

BILLING CODE 4312-52-P